DEPARTMENT OF COMMERCE

International Trade Administration

[A-570-900]

Diamond Sawblades and Parts Thereof From the People's Republic of China: Notice of Court Decision Not in Harmony With the Final Results of Review and Amended Final Results of the Antidumping Duty Administrative Review; 2012-2013

AGENCY: Enforcement and Compliance, International Trade Administration, Department of Commerce.

SUMMARY: On October 23, 2018, the United States Court of International Trade (CIT) sustained the final remand redetermination pertaining to the administrative review of the antidumping duty order on diamond sawblades and parts thereof from the People's Republic of China covering the period November 1, 2012, through October 31, 2013. The Department of Commerce (Commerce) is notifying the public that the CIT's final judgment in this case is not in harmony with the final results of the administrative review and that Commerce is amending the final results with respect to the respondents eligible for separate rates.

DATES: Applicable November 2, 2018.

FOR FURTHER INFORMATION CONTACT: Yang Jin Chun or Minoo Hatten, AD/CVD Operations, Office I, Enforcement and Compliance, International Trade Administration, U.S. Department of Commerce, 1401 Constitution Avenue NW, Washington, DC 20230; telephone (202) 482-5760 or (202) 482-1690, respectively.

SUPPLEMENTARY INFORMATION:

Background

On June 8, 2015, Commerce published the Final Results, in which we valued cores produced by Weihai Xiangguang Mechanical Industrial Co., Ltd., using a build-up methodology and calculated surrogate financial ratios using Philippine financial statements.¹ On March 31, 2017, the CIT remanded the Final Results to Commerce to reconsider the valuation of cores and the use of certain financial statements.² In the first final remand redetermination, we revised the valuation of cores and used other available financial statements to calculate surrogate financial ratios.³ On March 22, 2018, the CIT remanded the Final Results to further examine the revisions to the valuation of cores and our decision not to use certain financial statements in the first final remand redetermination.⁴ In the second final remand redetermination, we further revised the valuation of cores and we used additional financial statements to calculate surrogate financial ratios.⁵ On October 23, 2018, the CIT sustained our second final remand redetermination in its entirety.⁶

¹ See Diamond Sawblades and Parts Thereof from the People's Republic of China: Final Results of Antidumping Duty Administrative Review; 2012-2013, 80 FR 32344 (June 8, 2015) (Final Results) and accompanying Issues and Decision Memorandum at Comments 14 and 16.

² See Diamond Sawblades Manufacturers' Coalition v. United States, 219 F. Supp. 3d 1368 (CIT 2017).

³ See Final Remand Redetermination dated September 21, 2017, pursuant to Diamond Sawblades Manufacturers' Coalition v. United States, 219 F. Supp. 3d 1368 (CIT 2017), and available at https://enforcement.trade.gov/remands/17-36.pdf.

⁴ See Diamond Sawblades Manufacturers' Coalition v. United States, 299 F. Supp. 3d 1374 (CIT 2018).

⁵ See Final Second Remand Redetermination dated July 20, 2018, pursuant to Diamond Sawblades Manufacturers' Coalition v. United States, 299 F. Supp. 3d 1374 (CIT 2018), and available at https://enforcement.trade.gov/remands/18-26.pdf.

⁶ See Diamond Sawblades Manufacturers' Coalition v. United States, Consol. Court No. 15-00164, slip op. 18-145 (CIT Oct. 23, 2018).

Timken Notice

In its decision in Timken Co. v. United States, 893 F.2d 337, 341 (Fed. Cir. 1990) (Timken), as clarified by Diamond Sawblades Mfrs. Coalition v. United States, 626 F.3d 1374 (Fed. Cir. 2010), the United States Court of Appeals for the Federal Circuit held that, pursuant to section 516A(e) of the Tariff Act of 1930, as amended (the Act), Commerce must publish a notice of a court decision that is not “in harmony” with a Commerce determination and must suspend liquidation of entries pending a “conclusive” court decision. The CIT's October 23, 2018, final judgment sustaining the second final remand redetermination constitutes the CIT's final decision which is not “in harmony” with the Final Results. This notice is published in fulfillment of the publication requirements of Timken. Accordingly, Commerce will continue the suspension of liquidation of the subject merchandise pending expiration of the period to appeal or, if appealed, pending a final and conclusive court decision.

Amended Final Results of Review

Because there is now a final court decision, Commerce is amending the Final Results with respect to the separate rate respondents as follows:

Exporter | Weighted-average dumping margin (percent)
Bosun Tools Co., Ltd | 3.45
Chengdu Huifeng Diamond Tools Co., Ltd ⁷ | 12.05
Danyang City Ou Di Ma Tools Co., Ltd | 12.05
Danyang Huachang Diamond Tools Manufacturing Co., Ltd | 12.05
Danyang NYCL Tools Manufacturing Co., Ltd | 12.05
Danyang Tsunda Diamond Tools Co., Ltd | 12.05
Danyang Weiwang Tools Manufacturing Co., Ltd | 12.05
Guilin Tebon Superhard Material Co., Ltd | 12.05
Hangzhou Deer King Industrial and Trading Co., Ltd | 12.05
Hangzhou Kingburg Import & Export Co., Ltd | 12.05
Huzhou Gu's Import & Export Co., Ltd | 12.05
Jiangsu Fengtai Diamond Tool Manufacture Co., Ltd ⁸ | 12.05
Jiangsu Inter-China Group Corporation | 12.05
Jiangsu Youhe Tool Manufacturer Co., Ltd | 12.05
Pujiang Talent Diamond Tools Co., Ltd | 12.05
Qingdao Hyosung Diamond Tools Co., Ltd | 12.05
Qingyuan Shangtai Diamond Tools Co., Ltd | 12.05
Quanzhou Zhongzhi Diamond Tool Co., Ltd | 12.05
Rizhao Hein Saw Co., Ltd | 12.05
Saint-Gobain Abrasives (Shanghai) Co., Ltd | 12.05
Shanghai Jingquan Ind. Trade Co., Ltd | 12.05
Shanghai Starcraft Tools Company Limited | 12.05
Weihai Xiangguang Mechanical Industrial Co., Ltd | 22.57
Wuhan Wanbang Laser Diamond Tools Co ⁹ | 12.05
Xiamen ZL Diamond Technology Co., Ltd | 12.05
Zhejiang Wanli Tools Group Co., Ltd | 12.05

In the event the CIT's ruling is not appealed or, if appealed, upheld by a final and conclusive court decision, Commerce will instruct the U.S. Customs and Border Protection (CBP) to assess antidumping duties on unliquidated entries of subject merchandise based on the revised rates Commerce determined and listed above.

⁷ Commerce determined that Chengdu Huifeng New Material Technology Co., Ltd., is the successor-in-interest to Chengdu Huifeng Diamond Tools Co., Ltd. See Diamond Sawblades and Parts Thereof from the People's Republic of China: Final Results of Antidumping Duty Changed Circumstances Review, 82 FR 60177 (December 19, 2017).

⁸ Commerce found Jiangsu Fengtai Diamond Tool Manufacture Co., Ltd., Jiangsu Fengtai Tools Co., Ltd., and Jiangsu Fengtai Sawing Industry Co., Ltd., affiliated and Commerce collapsed these three companies into the Jiangsu Fengtai Single Entity. See, e.g., Diamond Sawblades and Parts Thereof from the People's Republic of China: Final Results of Antidumping Duty Administrative Review; 2014-2015, 82 FR 26912, 26913 n.5 (June 12, 2017).

⁹ Commerce determined that Wuhan Wanbang Laser Diamond Tools Co., Ltd., is the successor-in-interest to Wuhan Wanbang Laser Diamond Tools Co. See Diamond Sawblades and Parts Thereof from the People's Republic of China: Final Results of Antidumping Duty Changed Circumstances Review, 81 FR 20618 (April 8, 2016).

Cash Deposit Requirements

As the cash deposit rates for Danyang City Ou Di Ma Tools Co., Ltd., and Danyang Tsunda Diamond Tools Co., Ltd., have not been subject to subsequent administrative reviews, Commerce will issue revised cash deposit instructions to CBP adjusting the rate from 2.34 percent to 12.05 percent, effective November 2, 2018. For all other respondents listed above, because the cash deposit rates have been updated in subsequent administrative reviews,¹⁰ we will not update their cash deposit rates as a result of these amended final results.

¹⁰ See Diamond Sawblades and Parts Thereof from the People's Republic of China: Final Results of Antidumping Duty Administrative Review; 2014-2015, 82 FR 26912, 26913 (June 12, 2017), for Jiangsu Inter-China Group Corporation, Diamond Sawblades and Parts Thereof from the People's Republic of China: Final Results of Antidumping Duty Administrative Review; 2013-2014, 81 FR 38673, 38674-75 n.15 (June 14, 2016), for Pujiang Talent Diamond Tools Co., Ltd., which we identified as part of the China-wide entity, and Diamond Sawblades and Parts Thereof from the People's Republic of China: Preliminary Results of Antidumping Duty Administrative Review; 2015-2016, 82 FR 57585, 57586 (December 6, 2017), and accompanying Preliminary Decision Memorandum at 3-4. 9, unchanged in Diamond Sawblades and Parts Thereof from the People's Republic of China: Final Results of Antidumping Duty Administrative Review; 2015-2016, 83 FR 17527 (April 20, 2018), for all other respondents listed above for which the cash deposit rates will not be updated as a result of these amended final results.

Notification to Interested Parties

This notice is issued and published in accordance with sections 516A(e)(1), 751(a)(1), and 777(i)(1) of the Act.

Dated: October 31, 2018.
Gary Taverman,
Deputy Assistant Secretary for Antidumping and Countervailing Duty Operations, performing the non-exclusive functions and duties of the Assistant Secretary for Enforcement and Compliance.

[FR Doc. 2018-24251 Filed 11-5-18; 8:45 am]

BILLING CODE 3510-DS-P